DEPARTMENT OF HOMELAND SECURITY

Coast Guard

33 CFR Part 117

[USCG-2008-0151]

Drawbridge Operation Regulations; State Boat Channel, Babylon, NY

AGENCY: Coast Guard, DHS.

ACTION: Notice of temporary deviation from regulations.

SUMMARY: The Commander, First Coast Guard District, has issued a temporary deviation from the regulation governing the operation of the Robert Moses Causeway Bridge across the State Boat Channel at mile 30.7, at Babylon, New York. Under this temporary deviation the Robert Moses Causeway Bridge may remain in the closed position from March 31, 2008 through June 15, 2008. This deviation is necessary to facilitate scheduled bridge maintenance.

DATES: This deviation is effective from March 31, 2008 through June 15, 2008.

ADDRESSES: Documents indicated in this preamble as being available in the docket are part of docket USCG-2008-0151 and are available online at http:// www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the First Coast Guard District, Bridge Branch Office, 408 Atlantic Avenue, Boston, Massachusetts 02110, between 7 a.m. and 3 p.m., Monday through Friday, except Federal holidays.

FOR FURTHER INFORMATION CONTACT: Judy Leung-Yee, Project Officer, First Coast Guard District, at (212) 668-7165.

SUPPLEMENTARY INFORMATION: The Robert Moses Causeway Bridge, across the State Boat Channel at mile 30.7, at Babylon, New York, has a vertical clearance in the closed position of 29 feet at normal channel pool elevation and 100 feet of horizontal clearance in the main channel. The existing drawbridge operation regulations are listed at 33 CFR 117.799(i).

The owner of the bridge, New York Department of Transportation, requested a temporary deviation to facilitate scheduled bridge rehabilitation and painting operations.

Under this temporary deviation the Robert Moses Causeway Bridge may remain in the closed position from March 31, 2008 through June 15, 2008. Vessels that can pass under the draw without a bridge opening may do so at all times; however, vertical and horizontal clearances may be reduced at various locations. Further information regarding vertical and horizontal clearance reductions will be published in the Local Notice to Mariners.

This work was scheduled during the time of year when the bridge seldom opens. The recreational boat marinas were contacted and have no objection to the bridge closure.

In accordance with 33 CFR 117.35(e), the bridge must return to its regular operating schedule immediately at the end of the designated time period. This deviation from the operating regulations is authorized under 33 CFR 117.35.

Should the bridge maintenance authorized by this temporary deviation be completed before the end of the effective period published in this notice, the Coast Guard will rescind the remainder of this temporary deviation, and the bridge shall be returned to its normal operating schedule. Notice of the above action shall be provided to the public in the Local Notice to Mariners and the Federal Register, where practicable.

Dated: March 17, 2008.
Gary Kassof,
Bridge Program Manager, First Coast Guard District.

[FR Doc. E8-6153 Filed 3-25-08; 8:45 am]

BILLING CODE 4910-15-P